DEPARTMENT OF JUSTICE

Antitrust Division

Notice Pursuant to the National Cooperative Research and Production Act of 1993; National Warheads and Energetics Consortium

Notice is hereby given that, on May 26, 2010, pursuant to section 6(a) of the National Cooperative Research and Production Act of 1993, 15 U.S.C. 4301 et sect. (“the Act”), the National Warheads and Energetics Consortium (“NWEC”) has filed a written notification simultaneously with the Attorney General and the Federal Trade Commission disclosing changes in its membership. The notifications were filed for the purpose of extending the Act's provisions limiting the recovery of antitrust plaintiffs to actual damages under specified circumstances. Specifically, the Combined Systems, Inc., Jamestown, PA; QinetiQ North America, Reston, VA; and St. Mark's Powder, St. Marks, FL, have been added as parties to this venture.

Also, Advanced Ceramics Research, Tucson, AZ; ANEASOL, LLC, Santa Fe, NM; AMEC, Somerset, NJ; Applied Research Associates, Albuquerque, NM; Applied Spectra, Inc., Fremont, CA; Axsun Technologies, Inc., Naples, FL; BEC Manufacturing Corporation, Saddle Brook, NJ; Bipolar Technologies, Provo, UT; BlastGard International, Inc., Clearwater, FL; Cartridge Actuated Devices, Inc., Fairfield, NJ; CFD Research Corporation, Huntsville, AL; Chemical Compliance Systems, Inc., Lake Hopatcong, NJ; DCS Corporation, Alexandria, VA; Dynamic Systems and Research Corporation, Albuquerque, NM; Eaton Associates, LaPorte, IN; Energetics Material Management, East Ridge, TN; Enig Associates, Inc., Silver Spring, MD; ET Materials, LLC, Elk Grove, CA; Folsom Technologies International, LLC, East Greenbush, NY; Hi-Shear Technology Corporation, Torrance, CA; Hittite Microwave Corporation, Chelmsford, MA; Honeywell International, Inc., Defense and Space/Missiles and Munitions, Redmond, WA; Hughes Associates, Inc., Baltimore, MD; L-3 Communications—BT Fuze Products Division, Mt. Arlington, NJ; Material Processing and Research, Inc., Hackensack, NJ; Mentis Sciences, Inc., Manchester, NH; Midcom, Inc., Watertown, SD; Milli Sensor Systems and Actuators Inc., West Newton, MA; Missouri University of Science and Technology, Columbia, MO; mPhase Technologies, Inc., Little Falls, NJ; New Jersey Institute of Technology, Newark, NJ; NexTec, Xenia, OH; Northrop Grumman Space Technology, Redondo Beach, CA; Omnitek Partners LLC, Bay Shore, NY; Pendulum Management Company, LLC, Charlestown, IN; PIKA International, Inc., Stafford, TX; Planning Systems, Reston, VA; Plasma Processes, Inc., Huntsville, AL; Proton Aerospace Corporation, Jupiter, FL; Ridge Manufacturing Corporation, Rockaway, NJ; Rutgers, The State University of New Jersey, New Brunswick, NJ; Scientific Applications & Research Associates, Inc., Cypress, CA; Shalimar Research & Technology, Inc., Niceville, FL; Special Devices, Inc., Moorpark, CA; Stanley Associates, Huntsville, AL; SURVICE Engineering Company, Belcamp, MD; The Ex One Company, LLC, Irwin, PA; Thermal and Mechanical Technologies, Lafayette, LA; Tyco Electronics, Lowell, MA; University of Denver, Denver, CO; University of Maryland, College Park, MD; University of Mississippi, University, MS; and Valentec Systems Inc., Minden, LA, have withdrawn as parties to this venture.

No other changes have been made in either the membership or planned activity of the group research project. Membership in this group research project remains open, and NWEC intends to file additional written notifications disclosing all changes in membership.

On May 2, 2000, NWEC filed its original notification pursuant to Section 6(a) of the Act. The Department of Justice published a notice in the Federal Register pursuant to section 6(b) of the Act on June 30, 2000 (65 FR 40693).

The last notification was filed with the Department on April 16, 2009. A notice was published in the Federal Register pursuant to section 6(b) of the Act on May 22, 2009 (74 FR 24035).

Patricia A. Brink,
Deputy Director of Operations, Antitrust Division.

[FR Doc. 2010-14861 Filed 6-18-10; 8:45 am]

BILLING CODE 4410-11-M